DEPARTMENT OF AGRICULTURE

Submission for OMB Review; Comment Request

August 12, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: United States Warehouse Act (USWA).

OMB Control Number: 0560-0120.

Summary of Collection: The Secretary of Agriculture authorizes the Farm Service Agency (FSA) as specified in the USWA to license public warehouse operators that are in the business of storing agricultural products. FSA licenses over 50 percent of all commercial grain and cotton warehouse capacities in the United States. FSA administers USWA activities and encompasses examination of warehouses operated under the Standards for Approval of Warehouses under the Commodity Credit Corporation (CCC) Charter Act. Although there are several types of warehouses covered by USWA and CCC functions, the reporting requirements for a particular type of warehouse are essentially the same. With some exceptions, the same forms are used for both USWA licensing and CCC. The forms are furnished to interested warehouse operators or used by the warehouse examiners employed by FSA to secure and record information about the warehouse operators and the warehouse.

Need and Use of the Information: FSA will collect information as a basis to (1) determine whether or not the warehouse and the warehouse operator making application for licensing and/or approval meets applicable standards; (2) issue such license or approvals; and (3) determine, once licensed or approved, that the licensee or warehouse operator continues to meet such standards and is conforming to regulatory or contractual obligations.

Description of Respondents: Business or other for-profit.

Number of Respondents: 4,000.

Frequency of Responses: Reporting: On occasion; Annually; Other (daily record).

Total Burden Hours: 10,211.

Ruth Brown,
Departmental Information Collection Clearance Officer.

[FR Doc. E8-18929 Filed 8-14-08; 8:45 am]

BILLING CODE 3410-05-P